FEDERAL MARITIME COMMISSION

Sunshine Act Meeting

Agency Holding the Meeting: Federal Maritime Commission.

Federal Register Citation of Previous Announcement: 67 FR 3708.

Previously Announced Time and Date of the Meeting: 10 a.m.—January 30, 2002.

Change in the Meeting: Addition of item in the CLOSED portion of the meeting.

Item 2—Application of the Delta Queen Steamboat Co. to Approve a Section 3, Pub. L. 89-777 Escrow Agreement and issue certificates for the vessels DELTA QUEEN and MISSISSIPPI QUEEN.

CONTACT PERSON FOR MORE INFORMATION: Bryant L. VanBrakle, Secretary, (202) 523-5725.

Bryant L. Van Brakle,
Secretary.

[FR Doc. 02-2504 Filed 1-29-02; 12:45 pm]

BILLING CODE 6730-01-M